FEDERAL COMMUNICATIONS COMMISSION

47 CFR Part 51

[WC Docket No. 19-308; FCC 20-152; FRS 17457]

Modernizing Unbundling and Resale Requirements in an Era of Next-Generation Networks and Services; Correction

AGENCY: Federal Communications Commission.

ACTION: Final rule; correction.

SUMMARY: The Federal Communications Commission published a document in the Federal Register on January 8, 2021, announcing the elimination of unbundling and resale requirements where they stifle technology transitions and broadband deployment, and the preservation of unbundling requirements where they are still necessary to realize the 1996 Act's goal of robust intermodal competition benefiting all Americans. There is a typographical error in the rules section of this document, incorrectly referring to the heading as “Availability of DS1 loops” when it should read “Availability of DS3 loops.”

DATES: This correction is effective on February 8, 2021.

FOR FURTHER INFORMATION CONTACT: For further information, please contact Megan Danner, Competition Policy Division, Wireline Competition Bureau, at Megan.Danner@fcc.gov, 202-418-1151.

SUPPLEMENTARY INFORMATION:

Correction

In the Federal Register of January 8, 2021, in FR doc. 2020-25254, on page 1674, in the first column, correct the subject heading for § 51.319(a)(5)(i) to read: “Availability of DS3 loops”.

Federal Communications Commission.
Marlene Dortch,
Secretary.

[FR Doc. 2021-02772 Filed 2-8-21; 11:15 am]

BILLING CODE 6712-01-P